ENVIRONMENTAL PROTECTION AGENCY

40 CFR Part 52

[CA 040-0448a; FRL-7662-2]

Revisions to the California State Implementation Plan, El Dorado County Air Pollution Control District, Feather River Air Quality Management District, Kern County Air Pollution Control District, Sacramento Metropolitan Air Quality Management District, San Bernardino County Air Pollution Control District, Santa Barbara County Air Pollution Control District, and Yolo-Solano Air Pollution Control District

AGENCY: Environmental Protection Agency (EPA).

ACTION: Direct final rule.

SUMMARY: EPA is taking direct final action to approve revisions to the El Dorado County Air Pollution Control District (EDCAPCD), Feather River Air Quality Management District (FRAQMD), Kern County Air Pollution Control District (KCAPCD), Sacramento Metropolitan Air Quality Management District (SMAQMD), San Bernardino County Air Pollution Control District (now Mojave Desert Air Quality Management District) (MDAQMD), Santa Barbara County Air Pollution Control District (SBCAPCD), and Yolo-Solano Air Pollution Control District (YSAPCD) portions of the California State Implementation Plan (SIP). Under authority of the Clean Air Act as amended in 1990 (CAA or the Act), we are approving local rules that address emission statements.

DATES: This rule is effective on July 26, 2004, without further notice, unless EPA receives adverse comments by June 25, 2004. If we receive such comments, we will publish a timely withdrawal in the Federal Register to notify the public that this direct final rule will not take effect.

ADDRESSES: Send comments to Andy Steckel, Rulemaking Office Chief (AIR-4), U.S. Environmental Protection Agency, Region IX, 75 Hawthorne Street, San Francisco, CA 94105-3901 or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460.

California Air Resources Board, Stationary Source Division, Rule Evaluation Section, 1001 “I” Street, Sacramento, CA 95814.

El Dorado County Air Pollution Control District, 2850 Fairlane Court, Building C, Placerville, CA 95667-4100.

Feather River Air Quality Management District, 938—14th Street, Marysville, CA 95901-4149.

Kern County Air Pollution Control District, 2700 “M” Street, Suite 302, Bakersfield, CA 93301-2370.

Mojave Desert Air Quality Management District, 14306 Park Avenue, Victorville, CA 92392-2310.

Sacramento Metropolitan Air Quality Management District, 777—12th Street, Third Floor, Sacramento, CA 95814-1908.

Santa Barbara County Air Pollution Control District, 26 Castilian Drive, Suite B-23, Goleta, CA 93117-3027.

Yolo-Solano Air Quality Management District, 1947 Galileo Court, Suite 103, Davis, CA 95616-4882.

Copies of the rules may also be available via the Internet at the following site, http://www.arb.ca.gov/drdb/drdbltxt.htm. Please be advised that this is not an EPA Web site and may not contain the same version of the rules that were submitted to EPA.

FOR FURTHER INFORMATION CONTACT: Julie A. Rose, EPA Region IX, (415) 947-4126, rose.julie@epa.gov.

SUPPLEMENTARY INFORMATION: Throughout this document, “we,” “us” and “our” refer to EPA.

Table of Contents

I. The State's Submittal

A. What Rules Did the State Submit?

B. Are There Other Versions of These Rules?

C. What Is the Purpose of the Submitted Rules?

II. EPA's Evaluation and Action

A. How Is EPA Evaluating the Rules?

B. Do the Rules Meet the Evaluation Criteria?

C. EPA Recommendations To Further Improve the Rules

D. Public Comment and Final Action

III. Statutory and Executive Order Reviews

I. The State's Submittal

A. What Rules Did the State Submit?

Table 1 lists the rules we are approving with the dates that they were adopted by the local air agencies and submitted by the California Air Resources Board (CARB).

Table 1.—Submitted Rules
Local agency | Rule # | Rule title | Adopted | Submitted
EDCAPCD | 1000 | Emission Statement | 09/21/92 | 11/12/92
FRAQMD | 4.8 | Further Information | 09/14/92 | 11/12/92
KCAPCD | 108.2 | Emission Statement Requirements | 07/13/92 | 11/12/92
MDAQMD | 107 | Certification and Emission Statements | 09/17/92 | 11/12/92
SMAQMD | 105 | Emission Statements | 04/20/93 | 11/18/93
SBCAPCD | 212 | Emission Statements | 10/20/92 | 11/12/92
YSAPCD | 3.18 | Emission Statements | 11/15/92 | 11/18/93

On March 26, 1993, and December 23, 1993, the rules submitted on November 12, 1992, and November 18, 1993, respectively were found to meet the completeness criteria in 40 CFR part 51, appendix V, which must be met before formal EPA review.

B. Are There Other Versions of These Rules?

There are no previous versions of these rules with the exception of FRAPCD Rule 4.8, Further Information. We approved Sutter County Air Pollution Control District (SCAPCD) Rule 4.8, Public Information and Yuba County Air Pollution Control District (YCAPCD) Rule 4.8, Further Information into the California SIP on April 12, 1982. SCAPCD and YCAPCD joined together to form the FRAPCD on September 3, 1991. FRAPCD Rule 4.8 has now been revised to include emission statement requirements.

C. What Is the Purpose of the Submitted Rules and Rule Revision?

Section 182(a)(3)(B)(i) of the CAA requires that States with areas designated as nonattainment for ozone require emission statement data from sources of volatile organic compounds or oxides of nitrogen in the nonattainment areas. This requirement applies to all ozone nonattainment areas regardless of the classification (Marginal, Moderate, etc.). Emission statements were required to be submitted by November 15, 1993, and annually thereafter. Section 182(a)(3)(B)(ii) of the CAA allows the States and Districts to waive the requirement for emission statements for classes or categories of sources with less than 25 tons per year if the class or category is included in the base year and periodic inventories and emissions are calculated using emission factors established by EPA or other methods acceptable to EPA.

Section 110(a) of the CAA requires States to submit regulations that control volatile organic compounds and oxides of nitrogen, particulate matter, and other air pollutants which harm human health and the environment. These rules were developed as part of the local agency's program to control these pollutants and meet the requirements of sections 110 and 182 of the CAA.

II. EPA's Evaluation and Action

A. How Is EPA Evaluating the Rules?

These rules require owners or operators of sources which emit oxides of nitrogen (NOX), volatile organic compounds (VOC), or reactive organic gas (ROG) to provide the Air Pollution Control Officer (APCO) and CARB with a statement showing actual emissions of NOX, VOC, and ROG annually. The statement must contain a certification by a responsible official of the company that the information contained in the statement is accurate. The statement must contain the same information required in CARB's Emission Inventory Turn Around Document. The CARB's Emission Inventory Turn Around Document complies with the suggested contents of an emission statement found in EPA's draft Guidance on the Implementation of an Emission Statement Program. In combination with the other requirements, these rules must be enforceable (see section 110(a) of the Act) and must not relax existing requirements (see sections 110(l) and 193). EPA policy that we used to help evaluate enforceability requirements consistently includes the Bluebook (“Issues Relating to VOC Regulation Cutpoints, Deficiencies, and Deviations,” EPA, May 25, 1988) and the Little Bluebook (“Guidance Document for Correcting Common VOC & Other Rule Deficiencies,” EPA Region 9, August 21, 2001).

B. Do the Rules Meet the Evaluation Criteria?

We believe these rules are consistent with the relevant policy and guidance regarding enforceability and SIP relaxations. The TSDs have more information on our evaluation.

C. EPA Recommendations To Further Improve the Rules

The TSDs recommend that the CARB's most current emission inventory document, the “California Emission Inventory and Development And Reporting System II (CEIDARSII),” be referenced in the rules the next time the local agencies modify their rules.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by June 25, 2004, we will publish a timely withdrawal in the Federal Register to notify the public that the direct final approval will not take effect and we will address the comments in a subsequent final action based on the proposal. If we do not receive timely adverse comments, the direct final approval will be effective without further notice on July 26, 2004. This will incorporate these rules into the federally enforceable SIP.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 26, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements, Sulfur oxides.

Dated: May 3, 2004.
Wayne Nastri,
Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraphs (c)(190)(i)(C) to (G) and (c)(194)(i)(I) and (J) to read as follows:

§ 52.220 Identification of plan.

* * * * *

(c) * * *

(190) * * *

(i) * * *

(C) El Dorado County Air Pollution Control District.

(1) Rule 1000 adopted on September 21, 1992.

(D) Feather River Air Pollution Control District.

(1) Rule 4.8 adopted on September 14, 1992.

(E) Kern County Air Pollution Control District.

(1) Rule 108.2 adopted on July 13, 1992.

(F) San Bernardino County Air Pollution Control District (now Mojave Desert Air Quality Management District).

(1) Rule 107 adopted on September 14, 1992.

(G) Santa Barbara County Air Pollution Control District.

(1) Rule 212 adopted on October 20, 1992.

* * * * *

(194) * * *

(i) * * *

(I) Sacramento Metropolitan Air Quality Management District.

(1) Rule 105 adopted on April 20, 1993.

(J) Yolo-Solano Air Quality Management District.

(1) Rule 3.18 adopted on July 28, 1993.

* * * * *

[FR Doc. 04-11769 Filed 5-25-04; 8:45 am]

BILLING CODE 6560-50-P